DEPARTMENT OF ENERGY

Federal Energy Regulatory Commission

Combined Notice of Filings

Take notice that the Commission has received the following Natural Gas Pipeline Rate and Refund Report filings:

Docket Numbers: RP11-1973-000.

Applicants: Columbia Gas Transmission, LLC.

Description: Columbia Gas Transmission, LLC submits tariff filing per 154.204: Negotiated Rate Service Agreement—CEMI to be effective 4/1/2011.

Filed Date: 04/04/2011.

Accession Number: 20110404-5191.

Comment Date: 5 p.m. Eastern Time on Monday, April 18, 2011.

Docket Numbers: RP11-1974-000.

Applicants: CenterPoint Energy Gas Transmission Company, LLC.

Description: CenterPoint Energy Gas Transmission Company, LLC submits tariff filing per 154.204: CEGT LLC cleanup to be effective 5/6/2011.

Filed Date: 04/05/2011.

Accession Number: 20110405-5023.

Comment Date: 5 p.m. Eastern Time on Monday, April 18, 2011.

Docket Numbers: RP11-1975-000.

Applicants: Texas Gas Transmission, LLC.

Description: Texas Gas Transmission, LLC submits tariff filing per 154.204: Revise Types of Discounts to be effective 5/5/2011.

Filed Date: 04/05/2011.

Accession Number: 20110405-5027.

Comment Date: 5 p.m. Eastern Time on Monday, April 18, 2011.

Docket Numbers: RP11-1976-000.

Applicants: Kinder Morgan Interstate Gas Transmission LLC.

Description: Kinder Morgan Interstate Gas Transmission LLC submits tariff filing per 154.204: Negotiated Rate 2011-04-05 Mieco (A&R) to be effective 4/5/2011.

Filed Date: 04/05/2011.

Accession Number: 20110405-5063.

Comment Date: 5 p.m. Eastern Time on Monday, April 18, 2011.

Docket Numbers: RP11-1977-000.

Applicants: Dauphin Island Gathering Partners.

Description: Dauphin Island Gathering Partners submits tariff filing per 154.204: Negotiated Rates 2011-04-05 to be effective 4/6/2011.

Filed Date: 04/05/2011.

Accession Number: 20110405-5117.

Comment Date: 5 p.m. Eastern Time on Monday, April 18, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Dated: April 06, 2011.
Nathaniel J. Davis, Sr.,
Deputy Secretary.

[FR Doc. 2011-9313 Filed 4-15-11; 8:45 am]

BILLING CODE 6717-01-P